GENERAL SERVICES ADMINISTRATION

[Notice-CPO-2012-01; Docket 2012-0002; Sequence 21]

SES Performance Review Board

AGENCY: General Services Administration.

ACTION: Notice.

SUMMARY: Notice is hereby given of the appointment of new members to the General Services Administration Senior Executive Service Performance Review Board. The Performance Review Board assures consistency, stability, and objectivity in the performance appraisal process.

DATES: Effective Date: October 29, 2012.

FOR FURTHER INFORMATION CONTACT: Anthony Costa, Chief People Officer, Office of the Chief People Officer, General Services Administration, 1275 First Street NE., Washington, DC 20002, (202) 501-0398.

SUPPLEMENTARY INFORMATION: Section 4314(c)(1) through (5) of title 5 U.S.C. requires each agency to establish, in accordance with regulations prescribed by the Office of Personnel Management, one or more SES performance review board(s). The board is responsible for making recommendations to the appointing and awarding authority on the performance appraisal ratings and performance awards for the Senior Executive Service employees.

The following have been designated as members of the Performance Review Board of the General Services Administration:

Susan F. Brita, Deputy Administrator—Chair.

Anthony E. Costa, Chief People Officer.

Jiyoung C. Park, Associate Administrator for Small Business Utilization.

Sonny Hashmi, Deputy Chief Information Officer.

Joanna Rosato, Regional Commissioner for Public Buildings Service, Northeast & Caribbean Region.

Linda C. Chero, Regional Commissioner for Federal Acquisition Service, Mid-Atlantic Region.

Michael S. Gelber, Regional Commissioner for Federal Acquisition Service, Pacific Rim Region.

Dated: October 19, 2012.
Daniel M. Tangherlini,
Acting Administrator.

[FR Doc. 2012-26436 Filed 10-26-12; 8:45 am]

BILLING CODE 6820-34-P